NUCLEAR REGULATORY COMMISSION

Advisory Committee on Reactor Safeguards; Notice of Meeting

In accordance with the purposes of Sections 29 and 182b of the Atomic Energy Act (42 U.S.C. 2039, 2232b), the Advisory Committee on Reactor Safeguards (ACRS) will hold a meeting on December 6-8, 2012, 11545 Rockville Pike, Rockville, Maryland.

Thursday, December 6, 2012, Conference Room T2-B1, 11545 Rockville Pike, Rockville, Maryland

8:30 a.m.-9:15 a.m.: Discussion of Topics for Meeting with the Commission (Open)—The Committee will discuss the following topics for its meeting with the Commission: (1) Overview, (2) Revision of 10 CFR Part 20 for Conformance with International Commission on Radiological Protection Recommendations (SECY-12-0064), (3) Venting Systems for Boiling Water Reactors (BWRs) with Mark I and Mark II Containment Designs, and (4) Economic Consequences within the NRC Regulatory Framework (SECY-12-0110).

9:30 a.m.-11:30 a.m.: Meeting with the Commission (Open)—The Committee will discuss topics of mutual interest with the NRC Commission.

12:45 p.m.-12:50 p.m.: Opening Remarks by the ACRS Chairman (Open)—The ACRS Chairman will make opening remarks regarding the conduct of the meeting.

12:50 p.m.-2:15 p.m.: Design Specific Review Standard (DSRS) for Instrumentation and Control (I&C) of the Babcock & Wilcox (B&W) mPower Reactor Design (Open)—The Committee will hear presentations by and hold discussions with representatives of the NRC staff regarding the development of a DSRS in support of the staff's review of the I&C portion of the proposed mPower reactor design being developed by B&W.

2:30 p.m.-3:30 p.m.: Spent Fuel Transportation Risk Assessment (Open)—The Committee will hear presentations by and hold discussions with representatives of the NRC staff regarding a revised assessment of the risk associated with transportation of spent fuel.

3:45 p.m.-4:45 p.m.: Draft Final Regulatory Guide (RG) 4.22, “Decommissioning Planning During Operations” (Open)—The Committee will hear presentations by and hold discussions with representatives of the NRC staff regarding a draft final RG 4.22, “Decommissioning Planning During Operations.”

4:45 p.m.-7:00 p.m.: Preparation of ACRS Reports (Open)—The Committee will discuss proposed ACRS reports on matters discussed during this meeting.

Friday, December 7, 2012, Conference Room T2-B1, 11545 Rockville Pike, Rockville, Maryland

8:30 a.m.-8:35 a.m.: Opening Remarks by the ACRS Chairman (Open)—The ACRS Chairman will make opening remarks regarding the conduct of the meeting.

8:35 a.m.-9:30 a.m.: Guidance on Treatment of Probabilistic Risk Assessment (PRA) Uncertainties (Open)—The Committee will hear presentations by and hold discussions with representatives of the industry and the NRC staff regarding the development of guidance on the treatment of uncertainties associated with the use of PRAs in risk-informed applications.

9:45 a.m.-11:15 a.m.: Future ACRS Activities/Report of the Planning and Procedures Subcommittee (Open/Closed)—The Committee will discuss the recommendations of the Planning and Procedures Subcommittee regarding items proposed for consideration by the Full Committee during future ACRS Meetings, and matters related to the conduct of ACRS business, including anticipated workload and member assignments. [Note: A portion of this meeting may be closed pursuant to 5 U.S.C. 552b(c)(2) and (6) to discuss organizational and personnel matters that relate solely to internal personnel rules and practices of ACRS, and information the release of which would constitute a clearly unwarranted invasion of personal privacy.]

11:15 a.m.-11:30 a.m.: Reconciliation of ACRS Comments and Recommendations (Open)—The Committee will discuss the responses from the NRC Executive Director for Operations to comments and recommendations included in recent ACRS reports and letters.

11:30 p.m.-7:00 p.m.: Preparation of ACRS Reports (Open)—The Committee will continue its discussion of proposed ACRS reports on matters discussed during this meeting.

Saturday, December 8, 2012 Conference Room T2-B1, 11545 Rockville Pike, Rockville, Maryland

8:30 a.m.-11:30 a.m.: Preparation of ACRS Reports (Open)—The Committee will continue its discussion of proposed ACRS reports.

11:30 a.m.-12:00 p.m.: Miscellaneous (Open)—The Committee will continue its discussion related to the conduct of Committee activities and specific issues that were not completed during previous meetings.

Procedures for the conduct of and participation in ACRS meetings were published in the Federal Register on October 18, 2012, (77 FR 64146-64147). In accordance with those procedures, oral or written views may be presented by members of the public, including representatives of the nuclear industry. Persons desiring to make oral statements should notify Antonio Dias, Cognizant ACRS Staff (Telephone: 301-415-6805, Email: Antonio.Dias@nrc.gov), five days before the meeting, if possible, so that appropriate arrangements can be made to allow necessary time during the meeting for such statements. In view of the possibility that the schedule for ACRS meetings may be adjusted by the Chairman as necessary to facilitate the conduct of the meeting, persons planning to attend should check with the Cognizant ACRS staff if such rescheduling would result in major inconvenience.

Thirty-five hard copies of each presentation or handout should be provided 30 minutes before the meeting. In addition, one electronic copy of each presentation should be emailed to the Cognizant ACRS Staff one day before meeting. If an electronic copy cannot be provided within this timeframe, presenters should provide the Cognizant ACRS Staff with a CD containing each presentation at least 30 minutes before the meeting.

In accordance with Subsection 10(d) Public Law 92-463, and 5 U.S.C. 552b(c), certain portions of this meeting may be closed, as specifically noted above. Use of still, motion picture, and television cameras during the meeting may be limited to selected portions of the meeting as determined by the Chairman. Electronic recordings will be permitted only during the open portions of the meeting.

ACRS meeting agenda, meeting transcripts, and letter reports are available through the NRC Public Document Room at pdr.resource@nrc.gov, or by calling the PDR at 1-800-397-4209, or from the Publicly Available Records System (PARS) component of NRC's document system (ADAMS) which is accessible from the NRC Web site at http://www.nrc.gov/reading-rm/adams.html or http://www.nrc.gov/reading-rm/doc-collections/ACRS/.

Video teleconferencing service is available for observing open sessions of ACRS meetings. Those wishing to use this service should contact Mr. Theron Brown, ACRS Audio Visual Technician (301-415-8066), between 7:30 a.m. and 3:45 p.m. (ET), at least 10 days before the meeting to ensure the availability of this service. Individuals or organizations requesting this service will be responsible for telephone line charges and for providing the equipment and facilities that they use to establish the video teleconferencing link. The availability of video teleconferencing services is not guaranteed.

Dated: November 15, 2012.
Andrew L. Bates,
Advisory Committee Management Officer.

[FR Doc. 2012-28307 Filed 11-20-12; 8:45 am]

BILLING CODE 7590-01-P